DEPARTMENT OF HEALTH AND HUMAN SERVICES

Office of the Secretary

Office of the Assistant Secretary for Health, Statement of Organization, Functions, and Delegations of Authority

Part A, Office of the Secretary, Statement of Organization, Function, and Delegation of Authority for the U.S. Department of Health and Human Services (HHS) is being amended at Chapter AC, Office of the Assistant Secretary for Health (OASH), as last amended at 77 FR 60996-97, dated October 5, 2012, and 72 FR 58095-96, dated October 12, 2002. The amendment reflects the realignment of personnel oversight, administration and management functions for the Office on Women's Health (OWH) in the OASH. Specifically, this notice establishes the Division of Policy and Performance Management (ACB2), the Division of Strategic Communication (ACB3) and the Division of Program Innovation (ACB4) within the Office on Women's Health (ACB). The changes are as follows:

I. Under Part A, Chapter AC, Office of the Assistant Secretary for Health, make the following changes:

A. Under Section AC.20, Functions, “B. Office on Women's Health (ACB), Section 1. Immediate Office of the Director (ACB1)” replace the entire section with:

1. Immediate Office of the Director (ACB1). The Immediate Office of the Director, headed by the Deputy Director of the Office on Women's Health, is responsible for operations and administrative management, HR management, and budget planning and coordination. The office coordinates the programmatic aspects of HHS components in regards to issues relating to women's health; serves as the locus within HHS to identify changing needs, to recommend new studies, and to assess new challenges to the health of women; serves as a focal point within HHS to coordinate the continuing implementation of health objectives for the future; assures liaison occurs with relevant HHS agencies and offices; and facilitates the expansion of services and access to health care for all women. The Deputy Director plans and directs financial management activities, including budget formulation and execution; provides liaison on personnel management activities with the OASH and the Program Support Center; and is responsible for implementing the congressional, international health and national (regional) components for the OWH mission. The office also provides scientific analyses for all initiatives.

B. Under Section AC.20, Functions, “B. Office on Women's Health (ACB), Section 2. Division of Program Coordination (ACB2)” replace the entire section with:

2. Division of Policy and Performance Management (ACB2). The Division of Policy and Performance Management, headed by the Division Director, is responsible for strategic planning; policy review, development and analysis; and program evaluation and performance management. The division forecasts future OWH direction, leads strategic and operational plans development; supports and monitors their implementation; leads the design, management, and monitoring of evidence based women's health programs for targeted issues; advises director on policy issues and engages stakeholders, organizations, and partners in reviewing, developing and analyzing practices to inform policy development; and leads efforts to incorporate gender specific issues into broader health policy as well as evaluate how those issues are incorporated into health policy.

C. Under Section AC.20, Functions, “B. Office on Women's Health (ACB), Section 3. Division of Outreach and Collaboration (ACB3)” replace the entire section with:

3. Division of Strategic Communication (ACB3). The Division of Strategic Communication, headed by the Division Director, is responsible for professional and public outreach, communications channel technical support, and regional liaison. The division develops and executes programs to educate the public and health professionals and conducts regional liaison activities; develops evidence-based approaches in the development and evaluation of educational materials and implements clinical professional and adult educational practices and methodologies; acts as the liaison with the OASH communications office; is the gatekeeper for all materials; and manages the clearance process for OWH communications. The division provides communications channel technical support by implementing a wide range of communications media (including listservs, print, radio, TV, and social media) and tools; oversees web design, content development, and management; acts as the OWH technical liaison and APSA web council representative; and maintains a social media presence. As the RHC liaison, it supports the RHC in their mission to coordinate and implement public health initiatives to promote women's health issues at the regional, state, and local levels.

D. Under Section AC.20, Functions, “B. Office on Women's Health (ACB)” following Section 3 Division of Strategic Communication (ACB3) insert:

4. Division of Program Innovation (ACB4). The Division of Program Innovation, headed by the Division Director, is responsible for program development, management and support, and program development research. The division identifies evidence based strategies and develops model programs for targeted issues; designs, develops and implements interventions to improve women's health; incorporates gender specific issues into model programs; provides oversight for model program development and all related activities, including budget development and management; identifies future direction of women's health and associated strategies and gaps in current coverage; and reviews promising strategies to identify and promote innovative ideas for future program development.

II. Delegations of Authority. Directives or orders made by the Secretary, Assistant Secretary for Health, or Director, Office on Women's Health, all delegations and re-delegations of authority made to officials and employees of the affected organizational component will continue in force pending further redelegations, provided they are consistent with this reorganization.

III. Funds, Personnel, and Equipment. Transfer of organizations and functions affected by this reorganization shall be accompanied by direct and support funds, positions, personnel, records, equipment, supplies, and other resources.

Dated: August 15, 2013.
E.J. Holland, Jr.,
Assistant Secretary for Administration.

[FR Doc. 2013-20524 Filed 8-26-13; 8:45 am]

BILLING CODE 4150-33-P